AGENCY FOR INTERNATIONAL DEVELOPMENT

Board for International Food and Agricultural Development One Hundred and Forty-Ninth Meeting; Notice of Meeting

Pursuant to the Federal Advisory Committee Act, notice is hereby given of the one hundred and forty-ninth meeting of the Board for International Food and Agricultural Development (BIFAD). The meeting will be held from 9:40 a.m. to 5:15 p.m. on October 18th, 2005 in the Marriott Hotel, 7th and Grand Avenue, Des Moines, Iowa. The meeting is being held in conjunction with the World Food Prize events scheduled for October 19-20 in Des Moines.

In the morning BIFAD will hold its regular business meeting to discuss Title XII, the Agricultural Knowledge Initiative, human capacity building and other items of current interest. In the afternoon, BIFAD will host an open forum with two panel discussions on the overall theme of “Forging Critical Partnerships to Initiate a Green Revolution in Africa.”

The meeting is free and open to the public. Those wishing to attend the meeting or obtain additional information about BIFAD should contact John Rifenbark, the Designated Federal Officer for BIFAD. Write him in care of the U.S. Agency for International Development, Ronald Reagan Building, Office of Agriculture, Bureau for Economic Growth, Agriculture and Trade, 1300 Pennsylvania Avenue, NW., Room 2.11-004, Washington, DC 20523-2110 or telephone him at (202) 712-0163 or fax (202) 216-3010.

John T. Rifenbark,
USAID Designated Federal Officer for BIFAD, Office of Agriculture, Bureau for Economic Growth, Agriculture & Trade, U.S. Agency for International Development.

[FR Doc. E6-16333 Filed 10-3-06; 8:45 am]

BILLING CODE 6116-01-P